DEPARTMENT OF COMMERCE

Census Bureau

Current Industrial Reports Surveys—WAVE III (Mandatory and Voluntary Surveys)

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 17, 2005.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to: Judy Dodds, Assistant Chief for Census and Related Programs, (301) 763-4587, Census Bureau, Manufacturing and Construction Division, Room 2101, Building #4, Washington, DC 20233 (or via the Internet at judy.m.dodds@census.gov).

SUPPLEMENTARY INFORMATION:

I. Abstract

The Census Bureau conducts a series of monthly, quarterly, and annual surveys as part of the Current Industrial Reports (CIR) program. The CIR surveys deal mainly with the quantity and value of shipments of particular products and occasionally with data on production and inventories; unfilled orders, receipts, stocks and consumption; and comparative data on domestic production, exports, and imports of the products they cover. These surveys provide continuing and timely national statistical data on manufacturing. The results of these surveys are used extensively by individual firms, trade associations, and market analysts in planning or recommending marketing and legislative strategies.

The CIR program includes both mandatory and voluntary surveys. Typically, the monthly and quarterly surveys are conducted on a voluntary basis and annual collections are mandatory. The collection frequency of individual CIR surveys is determined by the cyclical nature of production, the need for frequent trade monitoring, or the use of data in Government economic indicator series. Some monthly and quarterly CIR surveys have an annual “counterpart” collection. The annual counterpart collects annual data on a mandatory basis from those firms not participating in the more frequent collection.

Due to the large number of surveys in the CIR program, for clearance purposes, the CIR surveys are divided into “waves.” One wave is resubmitted for clearance each year. This year the Census Bureau plans to submit mandatory and voluntary surveys of Wave III for clearance. The surveys in Wave III are:

Mandatory surveys | Voluntary survey
M311H—Fats and Oils (Warehouse) | *M336G—Civil Aircraft and Aircraft Engines.
M311L—Fats and Oils (Renderers).
M311M—Fats and Oils (Consumers).
M311N—Fats and Oils (Producers).
MA327E—Consumer, Scientific, Technical, and Industrial Glassware.
MA333D—Construction Machinery.
MA333F—Mining, Machinery and Mineral Processing Equipment.
** MA334B—Selected Instruments & Related Products.
** MA334M—Consumer Electronics.
MA334P—Communication Equipment.
** MA334Q—Semiconductors, Printed Circuit Boards, and Other Electronic Components.
MA334R—Computers and Office and Accounting Machines.
** MA334S—Electromedical and Irradiation Equipment.
** MA335A—Switchgear, Switchboard Apparatus, Relays, and Industrial Controls.
* This voluntary survey has mandatory annual counterpart.
** Moved from another wave.

II. Method of Collection

The Census Bureau will use mail out/mail back survey forms to collect data. We ask respondents to return monthly report forms within 10 days, quarterly report forms within 15 days, and annual report forms within 30 days of the initial mailing. Telephone calls and/or letters encouraging participation will be mailed to respondents who have not responded by the designated time.

III. Data

OMB Number: 0607-0476.

Form Number: See Chart Above.

Type of Review: Regular Review.

Affected Public: Businesses, or other for-profit organizations.

Estimated Number of Respondents: 9,109.

Estimated Time Per Response: 1.4322 hours.

Estimated Total Annual Burden: 13,046 hours.

Estimated Total Annual Cost: The estimated cost to respondents for all the CIR reports in Wave III for fiscal year 2006 is $217,477.

Respondent's Obligation: The CIR program includes both mandatory and voluntary surveys.

Legal Authority: Title 13, United States Code, sections 61, 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 15, 2005.
Madeleine Clayton,
Management Analyst, Office of the Chief Information Officer.

[FR Doc. 05-5427 Filed 3-17-05; 8:45 am]

BILLING CODE 3510-07-P